DEPARTMENT OF THE INTERIOR

Bureau of Land Management

[ID-410-1430-EU; IDI-35797]

Notice of Realty Action; Proposed Direct Sale of Public Land, Idaho

AGENCY: Bureau of Land Management, Interior.

ACTION: Notice of Realty Action.

SUMMARY: A parcel of public land totaling 5.07 acres in Shoshone County, Idaho, is being considered for direct sale to Sunshine Precious Metals Inc. under the provisions of the Federal Land Policy Management Act of 1976 (FLPMA), at no less than the appraised fair market value.

DATES: In order to ensure consideration in the environmental analysis of the proposed sale, comments must be received by March 24, 2008.

ADDRESSES: Address all comments concerning this Notice to Field Manager, Bureau of Land Management (BLM), Coeur d'Alene Field Office, 3815 Schreiber Way, Coeur d'Alene, Idaho 83815.

FOR FURTHER INFORMATION CONTACT: Janna Paronto, Realty Specialist, at the above address or phone (208) 769-5037.

SUPPLEMENTARY INFORMATION: The following-described public land in Shoshone County, Idaho, is being considered for sale under the authority of section 203 of the Federal Land Policy and Management Act of 1976, (90 Stat. 2750, 43 U.S.C. 1713):

Boise Meridian

T. 48 N., R. 3 E.,

sec. 10, E½SE¼SW¼SW¼;

sec. 15, lot 24.

The area described contains 5.07 acres in Shoshone County.

The 2007 BLM Coeur d'Alene Resource Management Plan identifies this parcel of public land as suitable for disposal. Conveyance of the identified public land will be subject to valid existing rights and encumbrances of record, including but not limited to, rights-of-way for roads and public utilities. Conveyance of any mineral interests pursuant to section 209 of the FLPMA will be analyzed during processing of the proposed sale.

On February 6, 2008, the above-described land will be segregated from appropriation under the public land laws, including the mining laws, except the sale provisions of the FLPMA. Until completion of the sale, the BLM is no longer accepting land use applications affecting the identified public land, except applications for the amendment of previously-filed right-of-way applications or existing authorizations to increase the term of the grants in accordance with 43 CFR 2807.15 and 2886.15. The segregative effect will terminate upon issuance of a patent, publication in the Federal Register of a termination of the segregation, or February 8, 2010, unless extended by the BLM State Director in accordance with 43 CFR 2711.1-2(d) prior to the termination date.

Public Comments

For a period until March 24, 2008, interested parties and the general public may submit in writing any comments concerning the land being considered for sale, including notification of any encumbrances or other claims relating to the identified land, to Field Manager, BLM Coeur d'Alene Field Office, at the above address. In order to ensure consideration in the environmental analysis of the proposed sale, comments must be in writing and postmarked or delivered within 45 days of the initial date of publication of this Notice. Comments transmitted via e-mail will not be accepted. Comments, including names and street addresses of respondents, will be available for public review at the BLM Coeur d'Alene Field Office during regular business hours, except holidays. Individual respondents may request confidentiality. Before including your address, phone number, e-mail address, or other personal identifying information in your comment, you should be aware that your entire comment-including your personal identifying information-may be made publicly available at any time. While you can ask us in your comment to withhold your personal identifying information from public review, we cannot guarantee that we will be able to do so. If you wish to have your name or address withheld from public disclosure under the Freedom of Information Act, you must state this prominently at the beginning of your comments. Any determination by the BLM to release or withhold the names and/or addresses of those who comment will be made on a case-by-case basis. Such requests will be honored to the extent allowed by law. The BLM will make available for public review, in their entirety, all comments submitted by businesses or organizations, including comments by individuals in their capacity as an official or representative of a business or organization.

(Authority: 43 CFR 2711.1-2)

Dated: January 22, 2008.
Eric R. Thomson,
Coeur d'Alene Field Manager.

[FR Doc. 08-485 Filed 2-5-08; 8:45am]

BILLING CODE 4310-GG-P